FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16473N.

Name: Actway Express Inc.

Address: 14261 East Don Julian Road, City of Industry, CA 91746.

Date Revoked: May 3, 2001.

Reason: Failed to maintain a valid bond.

License Number: 16571N.

Name: Arrow Worldwide Logistics, Inc.

Address: 137 Eucalyptus Drive, Suite P, El Segundo, CA 20573.

Date Revoked: March 12, 2003.

Reason: Failed to maintain a valid bond.

License Number: 16644N.

Name: Cargo Management International.

Address: 19113 So. Hamilton Ave, Gardena, CA 90248.

Date Revoked: February 27, 2003.

Reason: Surrendered license voluntarily.

License Number: 3665NF.

Name: Geotrans International, Inc.

Address: 17120 Valley View Ave., La Mirada, CA 90638.

Date Revoked: January 28, 2003.

Reason: Surrendered license voluntarily.

License Number: 2197F.

Name: I.F.T.C., Inc.

Address: 1401 NW 78th Ave., Suite 300, Miami, FL 33126.

Date Revoked: March 14, 2003.

Reason: Failed to maintain a valid bond.

License Number: 11296N.

Name: Master Air Cargo, Inc.

Address: 1840 NW 95th Ave., Miami, FL 33172.

Date Revoked: March 27, 2003.

Reason: Failed to maintain a valid bond.

License Number: 2006F.

Name: Kenehan International Services, Inc.

Address: 6020 S. Spencer Street, Suite A1, Las Vegas, NV 89119.

Date Revoked: March 10, 2003.

Reason: Failed to maintain a valid bond.

License Number: 4448NF.

Name: Pum Yang Express U.S.A., Inc.

Address: 425 Victoria Terrace, Ridgefield, NJ 07657.

Date Revoked: January 6, 2003.

Reason: Surrendered license voluntarily.

License Number: 17768NF.

Name: United Shipping Services, Inc.

Address: 2121 W. Mission Road, #307, Alhambra, CA 91803.

Date Revoked: March 1, 2003.

Reason: Surrendered license voluntarily.

License Number: 156NF.

Name: W.M. Stone & Company, Incorporated.

Address: 838 Granby Street, Norfolk, VA 23510.

Date Revoked: March 24, 2003.

Reason: Surrendered license voluntarily.

Dated: April 14, 2003.
Sandra L. Kusumoto,
Director, Bureau of Consumer Complaints and Licensing.

[FR Doc. 03-8696 Filed 4-9-03; 8:45 am]

BILLING CODE 6730-01-P